DEPARTMENT OF HOMELAND SECURITY

Coast Guard

33 CFR Part 117

[Docket No. USCG-2010-0795]

Drawbridge Operation Regulations; Shaw Cove, New London, CT, Maintenance

AGENCY: Coast Guard, DHS.

ACTION: Notice of temporary deviation from regulations.

SUMMARY: The Commander, First Coast Guard District, has issued a temporary deviation from the regulation governing the operation of the Amtrak Bridge across Shaw Cove, mile 0.0, at New London, Connecticut. This deviation allows the bridge to remain in the closed position two separate days in October and November to facilitate scheduled maintenance.

DATES: This deviation is effective from 6 p.m. on October 21, 2010 through 6 a.m. on November 16, 2010.

ADDRESSES: Documents mentioned in this preamble as being available in the docket are part of docket USCG-2010-0795 and are available online at http://www.regulations.gov, inserting USCG-2010-0795 in the “Keyword” and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Ms. Judy Leung-Yee, Project Officer, First Coast Guard District, telephone (212) 668-7165. If you have questions on viewing the docket, call Renee V. Wright, Program Manager, Docket Operations, telephone 202-366-9826.

SUPPLEMENTARY INFORMATION: The Amtrak Bridge, across Shaw Cove at mile 0.0, at New London, Connecticut, has a vertical clearance in the closed position of 3 feet at mean high water and 6 feet at mean low water. The drawbridge operation regulations are listed at 33 CFR 117.223.

The owner of the bridge, the National Passenger Rail Corporation (Amtrak), requested a temporary deviation from the regulations to facilitate scheduled bridge maintenance, gear box repairs at the bridge.

Under this temporary deviation the Amtrak Bridge may remain in the closed position from 6 p.m. on October 21, 2010 through 6 a.m. on October 22, 2010 to remove the old gear box. The bridge may remain in the closed position from 6 p.m. on November 12, 2010 through 6 a.m. on November 13, 2010, to install the rebuilt gear box.

In the event of inclement weather the bridge may remain in the closed position to reinstall the gear box from 6 p.m. on November 14, 2010 to 6 a.m. on November 15, 2010 or from 6 p.m. on November 15, 2010 to 6 a.m. on November 16, 2010.

A crane barge will be located in the south navigation channel during the removal and installation of the gear box. Vessels that can pass under the bridge in the closed position may do at any time through the north Channel.

Waterway users were advised of the requested bridge and channel closure and offered no objection.

In accordance with 33 CFR 117.35(e), the bridge must return to its regular operating schedule immediately at the end of the designated time period. This deviation from the operating regulations is authorized under 33 CFR 117.35.

Dated: August 24, 2010.
Gary Kassof,
Bridge Program Manager, First Coast Guard District.

[FR Doc. 2010-22035 Filed 9-2-10; 8:45 am]

BILLING CODE 9110-04-P